ENVIRONMENTAL PROTECTION AGENCY

[ER-FRL-8590-2]

Environmental Impact Statements; Notice of Availability

Responsible Agency: Office of Federal Activities, General Information (202) 564-1399 or http://www.epa.gov/compliance/nepa/.

Weekly receipt of Environmental Impact Statements

Filed 01/26/2009 Through 01/30/2009

Pursuant to 40 CFR 1506.9

EIS No. 20090027, Final EIS, FHW, TX, Grand Parkway/State Highway 99 Improvement Project, Segment G, from Interstate Highway (IH) 45 to U.S. 59, Funding, Right-of-Way Grant, U.S. Army COE Section 404 Permit, Harris and Montgomery Counties, TX, Wait Period Ends: 03/16/2009, Contact: Justin Ham 512-536-5963

EIS No. 20090028, Draft EIS, NPS, IN, Indiana Dunes National Lakeshore, Draft White-Tailed Deer Management Plan, Implementation, Lake, Porter, LaPorte Counties, IN, Comment Period Ends: 04/06/2009, Contact: Nick Chevance 402-661-1844

EIS No. 20090029, Final EIS, NSA, MD, Fort George G. Meade Utilities Upgrade Project, Proposes to Construct and Operate (1) North Utility Plant (2) South Generator Facility and (3) Central Boiler Plant, Fort George M. Meade, MD, Wait Period Ends: 03/09/2009, Contact: Jeffrey D, Williams 301-688-2970

EIS No. 20090030, Final EIS, COE, CO, Fort Carson Grow the Army Stationing Decision, Constructing New Facilities to Support Additional Soldiers and their Families, Portions of El Paso, Pueblo and Fremont Counties, CO, Wait Period Ends: 03/09/2009, Contact: Mike Ackerman 410-436-2522

EIS No. 20090031, Second Draft EIS (Tiering), FHW, IN, I-69 Evansville to Indianapolis, Indiana Project, Section 2, Oakland City to Washington, (IN-64 to U.S. 50), Gibson, Pike and Daviess Counties, IN, Comment Period Ends: 06/08/2009, Contact: Janice Osacdczuk 317-226-7486

EIS No. 20090032, Second Draft EIS (Tiering), FHW, IN, I-69 Evansville to Indianapolis, Indiana Project, Section 3, Washington to Crane NSWC (US 50 to U.S. 231), Daviess, Greene, Knox and Martin Counties, IN, Comment Period Ends: 06/08/2009, Contact: Janice Oscadczuk 317-226-7486

Amended Notices

EIS No. 20080007, Final EIS, STA, 00, Keystone Oil Pipeline Project, Proposed Construction, Connection, Operation and Maintenance, Applicant for Presidential Permit, ND, SD, NE, KS, MO, IL and OK, Contact: Nicholas J. Stas, 406-247-7399

Amended Notice: The U.S. Department of Energy's, Western Area Power Administration (DOE/WPA) has ADOPTED the U.S. Department of State's FEIS #2008007 filed on 01/04/2008. DOE/WPA was a Cooperating Agency for the above project. Recirculation of the FEIS is not necessary under 40 CFR 1506.3(c).

Dated: February 3, 2009.
Robert W. Hargrove,
Director, NEPA Compliance Division, Office of Federal Activities

[FR Doc. E9-2556 Filed 2-5-09; 8:45 am]

BILLING CODE 6560-50-P